DEPARTMENT OF JUSTICE

Office for Victims of Crime

[OMB Number 1121-0309]

Agency Information Collection Activities; Proposed eCollection eComments Requested; Extension of a Currently Approved Collection: International Terrorism Victim Expense Reimbursement Program Application

AGENCY: Office for Victims of Crime, Department of Justice.

ACTION: 30-Day notice.

SUMMARY: The Department of Justice (DOJ), Office of Justice Programs, Office for Victims of Crime, will be submitting the following information collection request to the Office of Management and Budget (OMB) for review and approval in accordance with the Paperwork Reduction Act of 1995. The proposed information collection is published to obtain comments from the public and affected agencies.

DATES: The Department of Justice encourages public comment and will accept input until January 22, 2018.

FOR FURTHER INFORMATION CONTACT: If you have additional comments especially on the estimated public burden or associated response time, suggestions, or need a copy of the proposed information collection instrument with instructions or additional information, please contact Victoria Jolicoeur, Office for Victims of Crime, 810 Seventh Street NW, Washington, DC 20531; by facsimile at (202) 305-2440 or by email, to ITVERP@usdoj.gov.

SUPPLEMENTARY INFORMATION: Written comments and/or suggestions can also be sent to the Office of Management and Budget, Office of Information and Regulatory Affairs, Attention Department of Justice Desk Officer, Washington, DC 20503 or sent to OIRA_submissions@omb.eop.gov.

Written comments and suggestions from the public and affected agencies concerning the proposed collection of information are encouraged. Your comments should address one or more of the following four points:

—Evaluate whether the proposed collection of information is necessary for the proper performance of the functions of the Office for Victims of Crime, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection

2. The Title of the Form/Collection: International Terrorism Victim Expense Reimbursement Program (ITVERP) Application

3. The agency form number, if any, and the applicable component of the Department sponsoring the collection: There is no agency form number for this collection. The applicable component within the Department of Justice is the Department of Justice is the Office for Victims of Crime, in the Office of Justice Programs.

4. Affected public who will be asked or required to respond, as well as a brief abstract: Primary: Individuals victims, surviving family members or personal representatives. Other: Federal Government. This application will be used to apply for the expense reimbursement by U.S. nationals and U.S. Government employees who are victims of acts of international terrorism that occur(red) outside of the United States. The application will be used to collect necessary information on the expenses incurred by the applicant, as associated with his or her victimization, as well as other pertinent information, and will be used by OVC to make an award determination.

5. An estimate of the total number of respondents and the amount of time estimated for an average respondent to respond: It is estimated that 100 respondents will complete the certification in approximately 45 minutes.

6. An estimate of the total public burden (in hours) associated with the collection: The estimated total public burden associated with this collection is 75 hours.

If additional information is required contact: Melody Braswell, Department Clearance Officer, United States Department of Justice, Justice Management Division, Policy and Planning Staff, Two Constitution Square, 145 N Street NE, 3E.405A, Washington, DC 20530.

Dated: December 18, 2017.
Melody Braswell,
Department Clearance Officer for PRA, U.S. Department of Justice.

[FR Doc. 2017-27484 Filed 12-20-17; 8:45 am]

BILLING CODE 4410-18-P